DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 20, 2005.

Title and OMB Number: Survey to Determine Economic Costs and Impact to Employers of Mobilized Reserve Component Members; OMB Control Number 0704-TBE.

Type of Request: New.

Number of Respondents: 2,745.

Responses per Respondent: 1.

Annual Responses: 1,699.

Average Burden per Response: .72.

Annual Burden Hours: 1,223.

Needs and Uses: As the duration and frequency of reliance on Reserve members increases, the number of employers operating with reduced work forces for longer periods is also increasing. Understanding how employer operations are impacted, the adjustments they make to sustain operations, and the cost to make these adjustments is the focus of this research. The self-administered survey will be mailed to a nationally representative sample of United States employers of Guard and Reserve members mobilized since 2002. Collected information will be used to identify unmet needs, to evaluate the economic effects of DoD policy on the civilian economy, and to guide development of or revisions to policy and program initiatives.

Affected Public: Business or other for-profit; not-for-profit institutions; State, local or tribal government.

Frequency: One Time.

Respondent's Obligation: Voluntary.

OMB Desk Officer: Mr. Lewis Oleinick.

Written comments and recommendations on the proposed information collection should be sent to Mr. Oleinick at the Office of Management and Budget, Desk Officer for DoD, Room 10236, New Executive Office Building, Washington, DC 20503.

DoD Clearance Officer: Ms. Patricia Toppings.

Written requests for copies of the information collection proposal should be sent to Ms. Toppings, WHS/ESD Information Management Division, 1225 South Clark Street, Suite 504, Arlington, VA 22202-4326.

Dated: June 7, 2005.
Patricia L. Toppings,
Alternate OSD Federal Register Liaison Officer, Department of Defense.

[FR Doc. 05-12069 Filed 6-17-05; 8:45 am]

BILLING CODE 5001-06-M